DEPARTMENT OF ENERGY

Federal Energy Regulatory Commission

Combined Notice of Filings # 1

January 30, 2007.

Take notice that the Commission received the following electric corporate filings:

Docket Numbers: EC07-50-000.

Applicants: Lake Road Generating Company, LP; BG North America.

Description: Lake Road Generating Company, LP et al. submits a joint application for authorization of the disposition of jurisdictional facilities pursuant to Section 203.

Filed Date: 1/22/2007.

Accession Number: 20070125-0192.

Comment Date: 5 p.m. Eastern Time on Monday, February 12, 2007.

Docket Numbers: EC07-51-000.

Applicants: DPL Energy, LLC.

Description: DPL Energy, LLC submits an application for approval of the transfer by sale of 100% of the Greenville Generating Station and its associated jurisdictional assets to Buckeye Power, Inc.

Filed Date: 1/23/2007.

Accession Number: 20070125-0181.

Comment Date: 5 p.m. Eastern Time on Tuesday, February 13, 2007.

Docket Numbers: EC07-52-000.

Applicants: Mirant Americas, Inc.; Mirant Energy Trading, LLC; Mirant Las Vegas, LLC; Mirant North America, LLC; Mirant Sugar Creek, LLC; Mirant Zeeland, LLC; Shady Hills Power Company, L.L.C.; West Georgia Generating Company, L.L.C.; LS Power Power Acquistition Co. I, LLC; LS Power Marketing, LLC.

Description: Mirant Americas Inc et al. submits an application requesting authorization sales and acquisition transaction under Section 203 of the FPA.

Filed Date: 1/24/2007.

Accession Number: 20070126-0280.

Comment Date: 5 p.m. Eastern Time on Wednesday, February 14, 2007.

Take notice that the Commission received the following electric rate filings:

Docket Numbers: ER91-569-036.

Applicants: Entergy Services Inc.

Description: Entergy Arkansas, Inc and Entergy Gulf States, Inc et al. submit a non-material change in status report pursuant to the requirements of Order 652.

Filed Date: 1/26/2007.

Accession Number: 20070129-0118.

Comment Date: 5 p.m. Eastern Time on Friday, February 16, 2007.

Docket Numbers: ER98-830-014; ER03-719-005; ER03-720-005; ER03-721-005.

Applicants: Millenium Power Partners, LLC; New Athens Generating Company, LLC; New Covert Generating Company, LLC; New Harquahala Generating Company, LLC.

Description: MACH Gen, LLC et al. submits a supplement to its notice of non-material change in status.

Filed Date: 01/25/2007.

Accession Number: 20070129-0115.

Comment Date: 5 p.m. Eastern Time on Thursday, February 15, 2007.

Docket Numbers: ER03-736-005.

Applicants: CAM Energy Products, L.P.

Description: CAM Energy Products, LP submits its triennial updated market power analysis pursuant to FERC's order issued on 6/12/03.

Filed Date: 1/25/2007

Accession Number: 20070129-0034.

Comment Date: 5 p.m. Eastern Time on Thursday, February 15, 2007.

Docket Numbers: ER04-208-003.

Applicants: Citigroup Energy Inc.

Description: Citigroup Energy, Inc submits its Triennial Updated Market Analysis pursuant to FERC's order issued 1/7/04.

Filed Date: 12/21/2006.

Accession Number: 20061227-0039.

Comment Date: 5 p.m. Eastern Time on Friday, February 9, 2007.

Docket Numbers: ER05-6-094; EL04-135-097; EL02-111-114; EL03-212-110.

Applicants: PJM Interconnection, L.L.C.

Description: PJM Interconnection, LLC submits its refund report pursuant to the Commission's 11/8/06 Order.

Filed Date: 1/25/2007.

Accession Number: 20070129-0116.

Comment Date: 5 p.m. Eastern Time on Thursday, February 15, 2007.

Docket Numbers: ER05-463-001.

Applicants: Mendota Hills, LLC.

Description: Mendota Hills, LLC submits a notification of non-material change in status.

Filed Date: 1/29/2007.

Accession Number: 20070129-5051.

Comment Date: 5 p.m. Eastern Time on Monday, February 19, 2007.

Docket Numbers: ER06-1397-001.

Applicants: Allegheny Ridge Wind Farm, LLC.

Description: Allegheny Ridge Wind Farm, LLC submits a notification of non-material change in status.

Filed Date: 1/29/2007.

Accession Number: 20070129-5050.

Comment Date: 5 p.m. Eastern Time on Monday, February 19, 2007.

Docket Numbers: ER06-1467-002; ER06-451-018.

Applicants: Southwest Power Pool, Inc.

Description: Southwest Power Pool, Inc submits portions of its OATT relating to its real-time energy imbalance service market, effective 1/1/07.

Filed Date: 1/25/2007.

Accession Number: 20070126-0294.

Comment Date: 5 p.m. Eastern Time on Thursday, February 15, 2007.

Docket Numbers: ER07-127-002.

Applicants: California Independent System Operator Corporation

Description: California Independent System Operator Corporation submits its compliance filing pursuant to the Commission's 12/28/06 order.

Filed Date: 1/29/2007.

Accession Number: 20070129-5043.

Comment Date: 5 p.m. Eastern Time on Monday, February 19, 2007.

Docket Numbers: ER07-232-001.

Applicants: Aragonne Wind LLC.

Description: Aragonne Wind LLC notification of non-material change in status.

Filed Date: 1/29/2007.

Accession Number: 20070129-5049.

Comment Date: 5 p.m. Eastern Time on Monday, February 19, 2007.

Docket Numbers: ER07-465-000.

Applicants: Oklahoma Gas and Electric Company.

Description: Oklahoma Gas and Electric Co submits a notice of cancellation of its Rate Schedule 145, Reserve Sharing Agreement with Oklahoma Municipal Power Authority.

Filed Date: 1/25/2007.

Accession Number: 20070126-0292.

Comment Date: 5 p.m. Eastern Time on Thursday, February 15, 2007.

Docket Numbers: ER07-466-000.

Applicants: Met Ma, LLC.

Description: MET MA, LLC submits an application for market-based rate authorization & request for waivers and blanket authorizations.

Filed Date: 1/25/2007.

Accession Number: 20070126-0293.

Comment Date: 5 p.m. Eastern Time on Thursday, February 15, 2007.

Docket Numbers: ER07-467-000.

Applicants: Sierra Pacific Power Company.

Description: Sierra Pacific Power Co submits a notice of cancellation of an amended operating agreement with Plumas-Sierra Rural Electric Cooperative, Northern California Power Agency & Pacific Gas and Electric Co.

Filed Date: 1/26/2007.

Accession Number: 20070126-0295.

Comment Date: 5 p.m. Eastern Time on Friday, February 16, 2007.

Docket Numbers: ER07-468-000.

Applicants: Sierra Pacific Power Company.

Description: Sierra Pacific Power Co submits an executed Interconnection Agreement with Plumas-Sierra Rural Electric Cooperative & notice of cancellation of Rate Schedule 29.

Filed Date: 1/26/2007.

Accession Number: 20070126-0296.

Comment Date: 5 p.m. Eastern Time on Friday, February 16, 2007.

Docket Numbers: ER07-471-000.

Applicants: Puget Sound Energy, Inc.

Description: Puget Sound Energy, Inc submits amendments to Sections 12A(1) and 12B(1) of the Power Contract-Rock Island Joint System dated 6/19/74 with Public Utility District 1 of Chelan County, WA.

Filed Date: 1/26/2007.

Accession Number: 20070129-0117.

Comment Date: 5 p.m. Eastern Time on Friday, February 16, 2007.

Take notice that the Commission received the following electric securities filings:

Docket Numbers: ES07-17-000.

Applicants: AEP Generating Company.

Description: AEP Generating Co submits an Application, Under Section 204 of the Federal Power Act, for Authorization to Issue Securities.

Filed Date: 1/26/2007.

Accession Number: 20070126-5004.

Comment Date: 5 p.m. Eastern Time on Friday, February 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-1906 Filed 2-6-07; 8:45 am]

BILLING CODE 6717-01-P